DEPARTMENT OF HOMELAND SECURITY

U.S. Customs and Border Protection

[Docket No. USCBP-2018-0020]

Commercial Customs Operations Advisory Committee (COAC) Charter Renewal

AGENCY: U.S. Customs and Border Protection (CBP), Department of Homeland Security (DHS).

ACTION: Committee Management; Notice of Federal Advisory Committee Charter Renewal.

SUMMARY: The Secretaries of the Department of the Treasury and the Department of Homeland Security approved the renewal of the charter for the Commercial Customs Operations Advisory Committee (COAC). The committee's charter is effective May 15, 2018, and expires May 15, 2020. Section 109 of the Trade Facilitation and Trade Enforcement Act of 2015 (TFTEA) established the COAC. The committee operates in accordance with the provisions of the Federal Advisory Committee Act (5 U.S.C. App.), except as otherwise provided for in section 109 of TFTEA. The COAC is a statutory advisory committee that provides the Department of the Treasury and the Department of Homeland Security with the perspectives and advice of the private sector.

ADDRESSES: If you desire to submit comments on this action, they must be submitted by September 10, 2018. Comments must be identified by (Docket No. USCBP-2018-0020) and may be submitted by one of the following methods:

• Federal eRulemaking Portal: https://www.regulations.gov. Follow the instructions for submitting comments.

• Email: (Tradeevents@dhs.gov). Include the docket number in the subject line of the message.

• Fax: (202) 325-4290.

• Mail: Ms. Florence Constant-Gibson, Office of Trade Relations, U.S. Customs and Border Protection, 1300 Pennsylvania Avenue NW, Room 3.5A, Washington, DC 20229.

• Instructions: All submissions received must include the words “Department of Homeland Security” and USCBP-2018-0020, the docket number for this action. Comments received will be posted without alteration at https://www.regulations.gov including any personal information provided.

• Docket: For access to the docket to read background documents or comments received, go to https://www.regulations.gov and search for Docket Number USCBP-2018-0020. To submit a comment, see the link on the Regulations.gov website for “How do I submit a comment?” located on the right hand side of the main site page.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290.

Purpose and Objective: In accordance with section 109 of TFTEA, the COAC provides advice to the Secretary of the Treasury and the Secretary of Homeland Security with respect to all matters involving the commercial operations of U.S. Customs and Border Protection (CBP), including advising with respect to significant changes that are proposed with respect to regulations, policies, or practices of CBP; provides recommendations to the Secretary of the Treasury and the Secretary of Homeland Security on improvements to the commercial operations of CBP; collaborates in developing the agenda for Advisory Committee meetings; and performs such other functions relating to the commercial operations of CBP as prescribed by law or as the Secretary of the Treasury and the Secretary of Homeland Security jointly direct.

The COAC charter can be found at http://www.cbp.gov/sites/default/files/documents/COAC%20Charter%20Filed%203.23.15.pdf.

Responsible CBP Officials: Mr. Bradley F. Hayes, Executive Director, Office of Trade Relations, U.S. Customs and Border Protection, 1300 Pennsylvania Avenue NW, Room 3.5A, Washington, DC 20229; telephone (202) 344-1440.

Dated: July 3, 2018.
Bradley F. Hayes,
Executive Director, Office of Trade Relations.

[FR Doc. 2018-14715 Filed 7-9-18; 8:45 am]

BILLING CODE 9111-16-P